CORPORATION FOR NATIONAL AND COMMUNITY SERVICE

Agency Information Collection Activities; Submission to the Office of Management and Budget for Review and Approval; Comment Request; NCCC Team Leader Application

AGENCY: Corporation for National and Community Service.

ACTION: Notice of information collection; request for comment.

SUMMARY: The Corporation for National and Community Service, operating as AmeriCorps, has submitted a public information collection request (ICR) entitled NCCC Team Leader Application for review and approval in accordance with the Paperwork Reduction Act.

DATES: Written comments must be submitted to the individual and office listed in the ADDRESSES section by November 20, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, John Christman, at 202-606-3871 or by email to jchristman@americorps.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on July 28, 2023 at 88 FR 48802. This comment period ended September, 26, 2023. No public comments were received for the 60-day Notice.

Title of Collection: AmeriCorps NCCC Team Leader Application.

OMB Control Number: 3045-0005.

Type of Review: Renewal.

Respondents/Affected Public: Individuals and Households.

Total Estimated Number of Annual Responses: 800.

Total Estimated Number of Annual Burden Hours: 1600.

Abstract: The NCCC Team Leader application, which is available electronically for all applicants, provides information AmeriCorps uses to select Team Leaders for AmeriCorps NCCC. AmeriCorps seeks to renew the current information collection.

Walter Goodson,
Director, AmeriCorps NCCC.

[FR Doc. 2023-23119 Filed 10-19-23; 8:45 am]

BILLING CODE 6050-28-P